DEPARTMENT OF TRANSPORTATION

Federal Aviation Administration

14 CFR Part 97

[Docket No. 30705 ; Amdt. No 3356]

Standard Instrument Approach Procedures, and Takeoff Minimums and Obstacle Departure Procedures; Miscellaneous Amendments

AGENCY: Federal Aviation Administration (FAA), DOT.

ACTION: Final Rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 28, 2010. The compliance date for each SIAP, associated Takeoff Minimums, and ODP is specified in the amendatory provisions.

The incorporation by reference of certain publications listed in the regulations is approved by the Director of the Federal Register as of January 28, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169. (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule ” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on January 8, 2010.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 11 FEB 2010

Enterprise, AL, Enterprise Muni, VOR RWY 5, Amdt 4

Chino, CA, Chino, ILS OR LOC RWY 26R, Amdt 8

Stockton, CA, Stockton Metropolitan, ILS OR LOC RWY 29R, Amdt 19

Avon Park, FL, Avon Park Executive, GPS RWY 4, Orig-A, CANCELLED

Avon Park, FL, Avon Park Executive, GPS RWY 9, Orig-A, CANCELLED

Avon Park, FL, Avon Park Executive, RNAV (GPS) RWY 5, Orig

Avon Park, FL, Avon Park Executive, RNAV (GPS) RWY 10, Orig

Titusville, FL, Space Coast Rgnl, RNAV (GPS) RWY 36, Orig-A

West Palm Beach, FL, Palm Beach Intl, RNAV (RNP) Z RWY 10L, Orig

West Palm Beach, FL, Palm Beach Intl, RNAV (RNP) Z RWY 14, Orig

West Palm Beach, FL, Palm Beach Intl, RNAV (RNP) Z RWY 28R, Orig

West Palm Beach, FL, Palm Beach Intl, RNAV (RNP) Z RWY 32, Orig

Kailua-Kona, HI, Kona Intl at Keahole, ILS OR LOC/DME RWY 17, Amdt 1

Kailua-Kona, HI, Kona Intl at Keahole, LOC RWY 17, Amdt 6B, CANCELLED

Clarion, IA, Clarion Muni, NDB RWY 14, Amdt 4

Clarion, IA, Clarion Muni, RNAV (GPS) RWY 14, Orig

Clarion, IA, Clarion Muni, RNAV (GPS) RWY 32, Orig

Clarion, IA, Clarion Muni, Takeoff Minimums and Obstacle DP, Amdt 1

Emmetsburg, IA, Emmetsburg Muni, NDB RWY 13, Amdt 3

Emmetsburg, IA, Emmetsburg Muni, NDB RWY 31, Amdt 3

Emmetsburg, IA, Emmetsburg Muni, RNAV (GPS) RWY 13, Orig

Emmetsburg, IA, Emmetsburg Muni, RNAV (GPS) RWY 31, Orig

Emmetsburg, IA, Emmetsburg Muni, Takeoff Minimums and Obstacle DP, Amdt 1

Forest City, IA, Forest City Muni, GPS RWY 33, Orig, CANCELLED

Forest City, IA, Forest City Muni, RNAV (GPS) RWY 33, Orig

Le Mars, IA, Le Mars Muni, GPS RWY 18, Orig-A, CANCELLED

Le Mars, IA, Le Mars Muni, RNAV (GPS) RWY 18, Orig

Le Mars, IA, Le Mars Muni, RNAV (GPS) RWY 36, Orig

Mapleton, IA, James G Whiting Memorial Field, Takeoff Minimums and Obstacle DP, Amdt 1

Carbondale/Murphysboro, IL, Southern Illinois, ILS OR LOC RWY 18L, Amdt 13

Carbondale/Murphysboro, IL, Southern Illinois, NDB RWY 18L, Amdt 13

Carbondale/Murphysboro, IL, Southern Illinois, RNAV (GPS) RWY 36R, Orig

Carbondale/Murphysboro, IL, Southern Illinois, Takeoff Minimums and Obstacle DP, Orig

Greenville, IL, Greenville, GPS RWY 18, Orig, CANCELLED

Greenville, IL, Greenville, RNAV (GPS) RWY 18, Orig

Bardstown, KY, Samuels Field, GPS RWY 20, Amdt 1A, CANCELLED

Bardstown, KY, Samuels Field, RNAV (GPS) RWY 2, Orig

Bardstown, KY, Samuels Field, RNAV (GPS) RWY 20, Orig

Taunton, MA, Taunton Muni-King Field, NDB RWY 30, Amdt 5

Taunton, MA, Taunton Muni-King Field, RNAV (GPS) RWY 30, Orig

Allegan, MI, Padgham Field, RNAV (GPS) RWY 11, Orig

Allegan, MI, Padgham Field, RNAV (GPS) RWY 29, Orig

Allegan, MI, Padgham Field, Takeoff Minimums and Obstacle DP, Amdt 2

Minneapolis, MN, Minneapolis-St Paul Intl/Wold Chamberlain, RNAV (GPS) RWY 30L, Amdt 2

Wolf Point, MT, L.M.Clayton, Takeoff Minimums and Obstacle DP, Orig

Minot, ND, Minot Intl, RNAV (GPS) RWY 8, Orig

Minot, ND, Minot Intl, RNAV (GPS) RWY 26, Orig

Minot, ND, Minot Intl, VOR RWY 8, Amdt 11

Minot, ND, Minot Intl, VOR RWY 26, Amdt 13

Whitefield, NH, Mount Washington Rgnl, RNAV (GPS) Y RWY 10, Orig

Whitefield, NH, Mount Washington Rgnl, RNAV (GPS) Z RWY 10, Orig

Newark, NJ, Newark Liberty Intl, GLS RWY 11, Orig

Newark, NJ, Newark Liberty Intl, GLS RWY 22L, Orig

Newark, NJ, Newark Liberty Intl, GLS RWY 22R, Orig

Monticello, NY, Sullivan County Intl, RNAV (GPS) RWY 15, Orig

Monticello, NY, Sullivan County Intl, RNAV (GPS) RWY 33, Amdt 1

Ashland, OH, Ashland County, NDB RWY 19, Amdt 11

Ashland, OH, Ashland County, RNAV (GPS) RWY 19, Orig

Ashland, OH, Ashland County, VOR-A, Amdt 9

Athens/Albany, OH, Ohio University Snyder Field, RNAV (GPS) RWY 7, Amdt 1

Athens/Albany, OH, Ohio University Snyder Field, RNAV (GPS) RWY 25, Amdt 1

Athens/Albany, OH, Ohio University Snyder Field, Takeoff Minimums and Obstacle DP, Orig

Celina, OH, Lakefield, NDB RWY 8, Amdt 5

Celina, OH, Lakefield, RNAV (GPS) RWY 8, Orig

Celina, OH, Lakefield, RNAV (GPS) RWY 26, Orig

Celina, OH, Lakefield, Takeoff Minimums and Obstacle DP, Amdt 2

Celina, OH, Lakefield, VOR/DME RNAV OR GPS RWY 26, Amdt 6, CANCELLED

Lima, OH, Lima Allen County, ILS OR LOC RWY 28, Amdt 4

Lima, OH, Lima Allen County, NDB OR GPS RWY 9, Amdt 2A, CANCELLED

Lima, OH, Lima Allen County, RNAV (GPS) RWY 10, Orig

Lima, OH, Lima Allen County, RNAV (GPS) RWY 28, Amdt 1

Lima, OH, Lima Allen County, Takeoff Minimums and Obstacle DP, Amdt 1

Lima, OH, Lima Allen County, VOR RWY 28, Amdt 16

Ardmore, OK, Ardmore Downtown Executive, Takeoff Minimums and Obstacle DP, Amdt 2

Lawton, OK, Lawton-Ft Sill Rgnl, Takeoff Minimums and Obstacle DP, Orig

Collegeville, PA, Perkomen Valley, VOR RWY 9, Amdt 5, CANCELLED

Collegeville, PA, Perkomen Valley, VOR-A, Orig

Saluda, SC, Saluda County, RNAV (GPS) RWY 1, Orig

Saluda, SC, Saluda County, RNAV (GPS) RWY 19, Orig

Greeneville, TN, Greeneville-Greene County Muni, Takeoff Minimums and Obstacle DP, Amdt 3

Abilene, TX, Abilene Rgnl, ILS OR LOC RWY 35R, Amdt 7

Abilene, TX, Abilene Rgnl, LOC RWY 17R, Orig

Abilene, TX, Abilene Rgnl, LOC BC RWY 17L, Amdt 3D, CANCELLED

Brenham, TX, Brenham Muni, Takeoff Minimums and Obstacle DP, Amdt 1

Dumas, TX, Moore County, GPS RWY 19, Orig-A, CANCELLED

Dumas, TX, Moore County, RNAV (GPS) RWY 1, Orig

Dumas, TX, Moore County, RNAV (GPS) RWY 19, Orig

Dumas, TX, Moore County, Takeoff and Minimums and Obstacle DP, Orig

Henderson, TX, Rusk County, RNAV (GPS) RWY 17, Amdt 1

Hereford, TX, Hereford Muni, GPS RWY 20, Orig-A, CANCELLED

Hereford, TX, Hereford Muni, RNAV (GPS) RWY 2, Orig

Hereford, TX, Hereford Muni, RNAV (GPS) RWY 20, Orig

Hereford, TX, Hereford Muni, Takeoff and Minimums and Obstacle DP, Orig

Bridgewater, VA, Bridgewater Air Park, NDB OR GPS-A, Amdt 4B, CANCELLED

Bridgewater, VA, Bridgewater Air Park, RNAV (GPS) RWY 15, Orig

Bridgewater, VA, Bridgewater Air Park, RNAV (GPS) RWY 33, Orig

Olympia, WA, Olympia Rgnl, ILS OR LOC RWY 17, Amdt 11

Racine, WI, John H. Batten, NDB OR GPS RWY 4, Amdt 3B, CANCELLED

Racine, WI, John H. Batten, RNAV (GPS) RWY 4, Orig

Racine, WI, John H. Batten, RNAV (GPS) RWY 22, Orig

Racine, WI, John H. Batten, RNAV (GPS) RWY 32, Orig

Racine, WI, John H. Batten, Takeoff Minimums and Obstacle DP, Amdt 5

Racine, WI, John H. Batten, VOR RWY 4, Amdt 1

Racine, WI, John H. Batten, VOR/DME RNAV OR GPS RWY 22, Amdt 3A, CANCELLED

Stevens Point, WI, Stevens Point Muni, RNAV (GPS) RWY 12, Orig

Stevens Point, WI, Stevens Point Muni, RNAV (GPS) RWY 30, Orig

Stevens Point, WI, Stevens Point Muni, VOR/DME RWY 30, Amdt 18

West Bend, WI, West Bend Muni, Takeoff Minimums and Obstacle DP, Orig

Martinsburg, WV, Eastern WV Rgnl/Shepherd, ILS OR LOC RWY 26, Amdt 8

Moundsville, WV, Marshall County, RNAV (GPS) RWY 6, Orig-A

Spencer, WV, Boggs Field, RNAV (GPS) RWY 10, Orig-A

Spencer, WV, Boggs Field, RNAV (GPS) RWY 28, Orig-A

Cody, WY, Yellowstone Rgnl, Takeoff Minimums and Obstacle DP, Amdt 4

On December 28, 2009 (74 FR 68523) The FAA published an Amendment in Docket No. 30701; Amdt No. 3352 to Part 97 of the Federal Aviation Regulations under section 97.20. The following entries are hereby rescinded in their entirety:

Little River, CA, Little River, LITTLE RIVER ONE Graphic Obstacle DP

Little River, CA, Little River, Takeoff Minimums and Obstacle DP, Orig

On January 7, 2010 (75 FR 917) The FAA published an Amendment in Docket No. 30703; Amdt No. 3354 to Part 97 of the Federal Aviation Regulations under section 97.33. The following entries are hereby rescinded in their entirety:

Elim, AK, Elim, RNAV (GPS) RWY 1, Orig

Elim, AK, Elim, RNAV (GPS) RWY 19, Orig

[FR Doc. 2010-1289 Filed 1-27-10; 8:45 am]

BILLING CODE 4910-13-P